GENERAL SERVICES ADMINISTRATION

[Notice—MG-2011-01; Docket No. 2011-0006; Sequence 11]

Office of Federal High-Performance Green Buildings; Establishment of the Green Building Advisory Committee

AGENCY: Office of Governmentwide Policy, U.S. General Services Administration (GSA).

ACTION: Notice.

SUMMARY: GSA announces the establishment of the Green Building Advisory Committee (the Committee), pursuant to Section 494 of the Energy Independence and Security Act of 2007, in accordance with the provisions of the Federal Advisory Committee Act, as amended, 5 U.S.C. App. 2.

DATES: Effective date: June 20, 2011.

FOR FURTHER INFORMATION CONTACT: Mr. Ken Sandler, General Services Administration, (202) 219-1121.

SUPPLEMENTARY INFORMATION: The Committee will provide advice and expertise to GSA as specified in Public Law 110-140, as a non-discretionary Federal advisory committee. Under this authority, the Committee is to advise GSA on the acceleration and successful transformation of the Federal building portfolio to sustainable technologies and practices. The Committee will focus on, but is not limited to, reviewing strategic plans, products and activities of the Office of Federal High-Performance Green Buildings and providing advice and expertise regarding how the Office can most effectively accomplish its mission.

Dated: June 14, 2011.
Robert Flaak,
Director, Office of Committee and Regulatory Management, General Services Administration.

[FR Doc. 2011-15298 Filed 6-17-11; 8:45 am]

BILLING CODE 6820-14-P